DEPARTMENT OF ENERGY

Federal Energy Regulatory Commission

[Docket No. ER01-1869-000, et al.]

PJM Interconnection, L.L.C., et al.; Electric Rate and Corporate Regulation Filings

April 30, 2001.

Take notice that the following filings have been made with the Commission:

1. PJM Interconnection, L.L.C.

[Docket No. ER01-1869-000]

Take notice that on April 25, 2001 PJM Interconnection, L.L.C. (PJM), tendered for filing an executed interconnection service agreement between PJM and FPL Energy MH50, L.P. and an interim interconnection service agreement between PJM and Calpine Construction Finance Company, L.P.

PJM requests a waiver of the Commission's 60-day notice requirement to permit the effective dates agreed to by the parties.

Copies of this filing were served upon each of the parties to the agreements and the state regulatory commissions within the PJM control area.

Comment date: May 16, 2001, in accordance with Standard Paragraph E at the end of this notice.

2. California Independent System Operator Corporation

[Docket No. ER98-3594-007]

Take notice that on April 25, 2001, the California Independent System Operator Corporation (ISO) tendered for filing revised ISO Tariff sheets to comply with the Commission's March 28, 2001 Order in the above-referenced docket.

The ISO states that the filing has been served on each person designated on the official service list compiled by the Secretary in this proceeding.

Comment date: May 16, 2001, in accordance with Standard Paragraph E at the end of this notice.

3. Sithe Edgar LLC, et al.

[Docket Nos. ER98-1943-002, ER98-2782-001, ER99-2404-001, ER98-107-001]

Take notice that on April 23, 2001, Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P., and Sithe Power Marketing, Inc. (the Sithe Jurisdictional Affiliates) tendered for filing an updated market-power analysis in compliance with the requirement in the orders granting them authority to make power sales at market-based rates.

Comment date: May 14, 2001, in accordance with Standard Paragraph E at the end of this notice.

4. Public Service Company of New Mexico

[Docket No. ER01-615-002]

Take notice that on April 25, 2001, Public Service Company of New Mexico (PNM) tendered for filing an amended filing in compliance with the Commission's January 24, 2001 order in Docket Nos. ER01-592-000 and ER01-615-000, Western Resources, Inc. and Public Service Company of New Mexico, 94 FERC ¶ 61,050 (2001) (January 24 Order). On February 23, 2001, PNM filed to revise Section 4 of its market-based sales tariff in compliance with the January 24 Order.

PNM states that the amended compliance filing consists of tariff sheets redesignated to conform to the tariff designation reflected in the January 24 Order, and contains no substantive changes to its February 23 compliance filing.

Comment date: May 16, 2001, in accordance with Standard Paragraph E at the end of this notice.

5. Valley Electric Association, Inc.

[Docket No. ER01-1229-001]

Take notice that on April 25, 2001, Valley Electric Association, Inc. tendered for filing an amendment to its filing in this proceeding.

Comment date: May 16, 2001, in accordance with Standard Paragraph E at the end of this notice.

6. FirstEnergy Operating Companies: The Cleveland Electric Illuminating Company, Ohio Edison Company, Pennsylvania Power Company, The Toledo Edison Company

[Docket No. EL01-69-000]

American Transmission Systems, Inc.

Take notice that on April 25, 2001, the FirstEnergy Operating Companies and American Transmission Systems, Inc. tendered for filing pursuant to Rule 207, 18 CFR 385.207 a petition for a declaratory order confirming the identification of local distribution facilities made by the Ohio Public Utilities Commission and the Pennsylvania Public Utility Commission.

Comment date: May 16, 2001, in accordance with Standard Paragraph E at the end of this notice.

7. California Independent System Operator Corporation

[Docket No. ER01-1863-000]

Take notice that on April 25, 2001, the California Independent System Operator Corporation tendered for filing a Meter Service Agreement for ISO Metered Entities between the ISO and Calpine Construction Finance Company, L.P. for acceptance by the Commission.

The ISO states that this filing has been served on Calpine Construction Finance Company, L.P. and the California Public Utilities Commission.

The ISO is requesting waiver of the 60-day notice requirement to allow the Meter Service Agreement for ISO Metered Entities to be made effective April 11, 2001.

Comment date: May 16, 2001, in accordance with Standard Paragraph E at the end of this notice.

8. Moses Lake Generating LLC

[Docket No. EG01-199-000]

Take notice that on April 25, 2001, Moses Lake Generating LLC tendered for filing an application for determination of exempt wholesale generator status pursuant to section 32(a)(1) of the Public Utility Holding Company Act of 1935 (PUHCA). The applicant is a limited liability company organized under the laws of the State of Delaware that is engaged directly and exclusively in developing, owning, and operating one or two facilities which will be eligible facilities in Grant County, Washington. The facilities will consist of multiple small duel-fueled (diesel/natural gas) generators, which in the aggregate will be capable of generating up to 60 MW of power, and equipment necessary to interconnect the facilities to the transmission grid.

Comment date: May 16, 2001, in accordance with Standard Paragraph E at the end of this notice. The Commission will limit its consideration of comments to those that concern the adequacy or accuracy of the application.

9. PacifiCorp

[Docket No. EC01-91-000]

Take notice that on April 25, 2001, PacifiCorp (PacifiCorp) tendered for filing an application pursuant to Section 203 of the Federal Power Act and Part 33 of the Regulations of the Commission for authorization of a disposition of jurisdictional facilities whereby NA General Partnership will transfer all of the outstanding common stock of PacifiCorp to newly-formed PacifiCorp Holdings, Inc. (PHI) in exchange for the capital stock of PHI. PacifiCorp will remain an indirect subsidiary of Scottish Power plc. PacifiCorp intends to transfer over time the non-regulated business of PacifiCorp Group Holdings Company (PGHC) and its subsidiaries to PHI.

The proposed restructuring plan also includes the transfer of the common stock of PacifiCorp's power marketing affiliate, PacifiCorp Power Marketing, Inc. to PHI. As a result of this transfer, control over PPM One LLC and PPM Six LLC effectively transfers from PacifiCorp to PHI, although ScottishPower retains ultimate power and control. PacifiCorp filed no Section 205 rate proceeding in this application, and states that the transaction will change only PacifiCorp's internal upstream corporate structure, and have no impact on competition, rates or regulation. Applicant has requested Commission approval of the transaction as early as practicable.

Comment date: May 16, 2001, in accordance with Standard Paragraph E at the end of this notice.

10. California Independent System Operator Corporation

[Docket No. ER01-1864-000]

Take notice that on April 25, 2001, the California Independent System Operator Corporation tendered for filing a Participating Generator Agreement between the ISO and Calpine Construction Finance Company, L.P. for acceptance by the Commission.

The ISO states that this filing has been served on Calpine Construction Finance Company, L.P. and the California Public Utilities Commission.

The ISO is requesting waiver of the 60-day notice requirement to allow the Participating Generator Agreement to be made effective April 11, 2001.

Comment date: May 16, 2001, in accordance with Standard Paragraph E at the end of this notice.

11. Entergy Services, Inc.

[Docket No. ER01-1866-000]

Take notice that on April 25, 2001, Entergy Services, Inc. (Entergy Services) tendered for filing with the Federal Energy Regulatory Commission an unexecuted Network Integration Transmission Service Agreement (the NITSA), and an unexecuted Network Operating Agreement (the NOA) between Entergy Services and the following parties: (1) Mississippi Delta Energy Agency (MDEA), a joint action agency organized and existing under the laws of the State of Mississippi, composed of the Clarksdale Public Utilities Commission of the City of Clarksdale, Mississippi (Clarksdale) and the Public Service Commission of Yazoo City of the City of Yazoo City Mississippi (Yazoo City); (2) Clarksdale; and (3) Yazoo City.

Entergy Services requests that the NITSA and NOA be accepted for filing effective as of May 1, 2001, and requests waiver of the Commission's regulations to the extent necessary to permit the NITSA and NOA to become effective that date.

Comment date: May 16, 2001, in accordance with Standard Paragraph E at the end of this notice.

12. Carolina Power & Light Company

[Docket No. ER01-1867-000]

Take notice that on April 25, 2001, Carolina Power & Light Company (CP&L) tendered for filing an executed Service Agreement between CP&L and the following eligible buyer, Dynegy Power Marketing, Inc. Service to this eligible buyer will be in accordance with the terms and conditions of CP&L's Market-Based Rates Tariff, FERC Electric Tariff No. 4, for sales of capacity and energy at market-based rates.

CP&L requests an effective date of April 15, 2001 for this Service Agreement.

Copies of the filing were served upon the North Carolina Utilities Commission and the South Carolina Public Service Commission.

Comment date: May 16, 2001, in accordance with Standard Paragraph E at the end of this notice.

13. PP Southwest Generation Holdings, LLC

[Docket No. ER01-1870-000]

Take notice that on April 25, 2001, PPL Southwest Generation Holdings, LLC (PPL Southwest Generation Holdings) tendered for filing an Application for Authority to sell electric energy, capacity and specified ancillary services at market-based rates.

PPL Southwest Generation Holdings requests that the Commission permit its Market-Based Rate Tariff to become effective one business day from the date of filing.

Comment date: May16, 2001, in accordance with Standard Paragraph E at the end of this notice.

14. Moses Lake Generating LLC

[Docket No. ER01-1871-000]

Take notice that on April 25, 2001, Moses Lake Generating LLC (Moses Lake), an electric power developer organized under the laws of Delaware, tendered for filing acceptance of its market-based rate tariff, waiver of certain requirements under Subparts B and C of Part 35 of the Commission's regulations, and preapproval of transactions under Part 34 of the regulations.

Moses Lake is intending to construct, own, and operate a facility with a capacity up to 60 MW in Grant County, Washington.

Comment date: May 16, 2001, in accordance with Standard Paragraph E at the end of this notice.

15. Arizona Public Service Company

[Docket No. ER01-1872-000]

Take notice that on April 25, 2001, Arizona Public Service Company (APS) tendered for filing umbrella Service Agreements to provide Short-Term Firm and Non-Firm Point-to-Point Transmission Service to Conoco, Inc. under APS Open Access Transmission Tariff.

A copy of this filing has been served on Conoco, Inc., and the Arizona Corporation Commission.

Comment date: May 16, 2001, in accordance with Standard Paragraph E at the end of this notice.

16. American Transmission Company LLC

[Docket No. ER01-1873-000]

Take notice that on April 25, 2001, American Transmission Company LLC (ATCLLC) tendered for filing a Short-Term Firm and Short-Term Non-Firm Point-to-Point Service Agreement between ATCLLC and Aquila Energy Marketing Corporation. ATCLLC requests an effective date of March 26, 2001.

Comment date: May 16, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11340 Filed 5-4-01; 8:45 am]

BILLING CODE 6717-01-P